DEPARTMENT OF LABOR

Employment and Training Administration

[TA-W-70,390]

Springs Global US, Inc., Sardis, MS; Notice of Termination of Investigation

Pursuant to Section 223 of the Trade Act of 1974, as amended, an investigation was initiated in response to a petition filed on May 21, 2009 by a company official on behalf of workers of Springs Global US, Inc., Sardis, Mississippi.

The petitioner has requested that the petition is withdrawn. Consequently, the investigation has been terminated.

Signed at Washington, DC, this 14th day of July 2009.
Richard Church,
Certifying Officer, Division of Trade Adjustment Assistance.

[FR Doc. E9-18046 Filed 7-28-09; 8:45 am]

BILLING CODE 4510-FN-P